CORPORATION FOR NATIONAL AND COMMUNITY SERVICE

Notice of Technical Assistance Conference Calls for Organizations Applying Directly to the Corporation for Funding Through the AmeriCorps*National Program Grant

AGENCY: Corporation for National and Community Service.

ACTION: Notice of technical assistance conference calls.

SUMMARY: The Corporation for National and Community Service (hereinafter the “Corporation”) will be providing a series of technical assistance conference calls for organizations applying directly to the Corporation for funding through the AmeriCorps*National Program. If you are applying for funding via a state commission, instead of applying directly to the Corporation, please contact your commission for assistance using the following link to choose your state and then find your state commission: http://www.nationalservice.org/about/family/commissions_pick.html.

Part A. AmeriCorps*National Guidelines and Application Instructions

We will hold a series of technical assistance calls to review the 2003-2004 AmeriCorps*National Application Instructions. Non-profit organizations intending to submit an application for an AmeriCorps*National program grant, to operate a program in two or more states, may participate in these calls. Participation in these calls is optional. The 2003-2004 AmeriCorps Guidelines and AmeriCorps*National Application Instructions are posted on our Web site at: http://www.americorps.org/resources/guidelines2003.html.

These calls will be recorded and available for replay. Call dates and times are as follows.

• For organizations applying for NEW AmeriCorps*National program grants: March 11, 2003, 1-2:30 p.m. EST.

• For organizations applying for AmeriCorps*National PLANNING grants: March 12, 2003, 1-2:30 p.m. EST.

• For existing AmeriCorps*National Grantees applying for CONTINUATION grants: March 26, 2003, 1-2:30 p.m. EST.

To Register for a Call: Select one of the call dates specified above, then contact Sueko Kumagai via e-mail (skumagai@cns.gov) or phone (202-606-5000, ext. #418) with your selected date. Please register no later than 3 days prior to your selected call.

Part B. AmeriCorps*National Application Toolkit Technical Assistance Calls

We will hold a series of technical assistance calls reviewing application toolkits. We have developed the toolkits to assist applicants with the performance measurement, tutoring, and faith-based and community initiative aspects of program design. Non-profit organizations intending to submit an application to the Corporation for an AmeriCorps*National program grant, to operate a program in two or more states, may participate in these calls. Participation in these calls is optional.

These calls will be recorded and available for replay. Call dates and times are as follows. Call-in information and replay information are provided for each call.

• Performance Measurement Toolkit Technical Assistance Conference Calls

Tuesday, February 18, 3 p.m. EST—for NEW AmeriCorps*National Applicants

Toll-Free Number: (888) 723-9816. PassCode: toolkit

Leader's Name: Sueko Kumagai

Replay Number: (800) 835-8069. Replay available until: February 25, 2003, 3 p.m. EST

Tuesday, February 25, 4 p.m. EST—for current AmeriCorps*National Grantees

Leader's Name: Sueko Kumagai. PassCode: toolkit

Toll-Free Number: (888) 723-9816

Replay Number: (800) 294-9508. Replay available until: March 4, 2003, 4 p.m. EST

• Faith Based and Community Initiatives Toolkit Technical Assistance Conference Calls

Wednesday, February 19, 2003, 3 p.m. EST—for NEW AmeriCorps*National Applicants

Leader's Name: Sueko Kumagai. PassCode: toolkit

Toll-Free Number: (888) 723-9816

Replay Number: (800) 489-7535. Replay available until: February 26, 2003, 3 p.m. EST

Wednesday, February 26, 2003, 4 p.m. EST—for current AmeriCorps*National Grantees

Leader's Name: Sueko Kumagai. PassCode: toolkit

Toll-Free Number: (888) 723-9816 Replay Number: (800) 839-9137. Replay available until: March 5, 2003, at 4 p.m. EST

• Tutoring Toolkit Technical Assistance Conference Calls

Friday, February 21, 2003, 3:30 p.m. EST—for NEW AmeriCorps*National Applicants

Leader's Name: Sueko Kumagai. PassCode: toolkit

Toll-Free Number: (888) 723-9816

Replay Number: (800) 925-2387. Replay available until: February 28, 2003, 3 p.m. EST

Friday, February 28, 3 p.m. EST—for current AmeriCorps*National Grantees

Leader's Name: Sueko Kumagai. PassCode: toolkit

Toll-Free Number: (888) 723-9816

Replay Number: (888) 568-0350. Replay available until: March 7, 2003, at 3 p.m. EST

We will schedule additional technical assistance calls for the toolkits for Capacity Building with Members and Citizenship and Member Development in the near future. Please check http://www.americorps.org/resources/guidelines2003.html frequently for updates.

To Register for a Call: Select one of the call dates specified above, then contact Sueko Kumagai via e-mail (skumagai@cns.gov) or phone (202-606-5000, ext. #418) with your selected date. You must respond no later than three days prior to your selected call.

Dated: February 10, 2003.
John Foster-Bey,
Director, AmeriCorps*State and National.

[FR Doc. 03-3598 Filed 2-13-03; 8:45 am]

BILLING CODE 6050-$$-P